DEPARTMENT OF TRANSPORTATION

Coast Guard

33 CFR Parts 110 and 165

[CGD01-99-050]

RIN 2115-AA97

Temporary Regulations: OPSAIL 2000/International Naval Review 2000 (INR 2000), Port of New York/New Jersey

AGENCY: Coast Guard, DOT.

ACTION: Notice of proposed rulemaking; correction.

SUMMARY: This document corrects a proposed rule published in the Federal Register of February 7, 2000, concerning temporary regulations for Port of New York/New Jersey during OPSAIL 2000. That document contained incomplete regulatory text in two sections and a correction is necessary.

FOR FURTHER INFORMATION CONTACT: LT J. Lopez, Waterways Oversight Branch, Coast Guard Activities New York (718) 354-493.

SUPPLEMENTARY INFORMATION:

Correction

In proposed rule FR Doc 00-2245, on page 5844, first column, in § 110.155 and § 165T01-050 the proposed regulatory text is incompletely set out and a correction is needed.

Correction of publication.

Accordingly, the publication on February 7, 2000, of the notice of proposed rulemaking [CGD01-99-050], which is the subject of FR Doc. 00-2245, is corrected as follows:

1. On page 5842, third column, amendment 2.h. is corrected to read as follows:

h. Add new paragraphs (o) and (p).

2. On page 5844, first column, in proposed § 110.155 add paragraph (p) immediately after paragraph (o)(2)(iii) to read as follows:

(p) Temporary Amendment Applicable Dates and Times

(1) From 12 noon on June 29, 2000 through 12 noon on July 5, 2000:

(i) The introductory text added at the beginning of this section is applicable.

(ii) The suspension of paragraphs (d)(1) through (5), (d)(10)(i), (n)(1), the introductory text of paragraph (d)(16), and the note to paragraph (f)(1) of this section is applicable.

(iii) The additon of new paragraphs (d)(10)(ii), and (d)(17) through (20) of this section are applicable.

(2) The suspension of paragraphs (d)(7) through (9) of this section is applicable from 3 a.m., e.s.t. on July 3, 2000 through 12 noon on July 5, 2000.

(3) From 3 a.m., e.s.t. on July 3, 2000 through 6 a.m., e.s.t. on July 5, 2000:

(i) The suspension of paragraph (d)(12)(i) of this section is applicable.

(ii) The additions of new paragraphs (d)(11)(iii), (d)(12)(iii) and (iv), (d)(13)(vi), (d)(14)(iv), and (d)(15)(iii) of this section are applicable.

(4) From 6 a.m., e.s.t. on July 2, 2000 through 4 p.m., e.s.t. on July 4, 2000:

(i) The suspensions of paragraphs (m)(2)(i) and (ii), and (m)(3)(i) of this section are applicable.

(ii) The additions of new paragraphs (m)(2)(iii), (m)(3)(ii), and (e)(1)(iii) of this section are applicable.

(5) From 6 a.m., e.s.t. on July 2, 2000 through 12 noon on July 5, 2000, the addition of new paragraph (o) of this section is applicable.

(6) From 12 noon on July 2, 2000 through 12 noon on July 5, 2000, the addition of new paragraphs (c)(1)(ii), (c)(2)(ii) and (c)(3)(ii) of this section are applicable.

3. On page 5844, first column, proposed § 165.T01-050 is corrected to read as follows:

§ 165.T01-050 Security Zones: International Naval Review (INR) 2000, Hudson River and Upper New York Bay.

(a) The following areas are established as security zones:

(1) Security Zone A—

(i) Location: This security zone includes all waters within 500 yards of the U.S. Navy review ship and the zone will move with the review ship as it transits the Hudson River and Upper New York Bay during the International Naval Review between the George Washington Bridge (river mile 11.0) and the Verrazano-Narrows Bridge.

(ii) Enforcement period. Paragraph (a)(1)(i) of this section is enforced from 7 a.m., e.s.t. until 11 a.m., e.s.t. on July 4, 2000.

(2) Security Zone B—

(i) Location. All waters within 500 yards of the USS JOHN F. KENNEDY (CV-67), in Federal Anchorage 21B.

(ii) Enforcement period. Paragraph (a)(2)(i) of this section is enforced from 10 a.m., e.s.t. until 5 p.m., e.s.t. on July 4, 2000.

(b) Effective period. This section is effective from 7 a.m., e.s.t. on July 4, 2000, until 5 p.m., e.s.t. on July 4, 2000.

(c) All persons and vessels shall comply with the instructions of the Coast Guard Captain of the Port or the designated on-scene-patrol personnel. These personnel comprise commissioned, warrant, and petty officers of the Coast Guard. Upon being hailed by a U. S. Coast Guard vessel by siren, radio, flashing light, or other means, the operator of a vessel shall proceed as directed.

Dated: February 8, 2000.
Pamela Pelcovits,
Chief, Office of Regulations and Administrative Law, United States Coast Guard, DOT.

[FR Doc. 00-3384 Filed 2-11-00; 8:45 am]

BILLING CODE 4910-15-P